FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010168-018.

Title: New Caribbean Service Rate Agreement.

Parties: CMA CGM S.A., Hapag-Lloyd Container Linie GmbH, P&O Nedlloyd Limited/P&O Nedlloyd B.V., Hamburg-Süd KG, Compania Sud Americana de Vapores, S.A.

Synopsis: The proposed agreement amendment deletes ports in and around the Caribbean from the geographic scope; removes space chartering authority, which is now contained in a separate agreement (FMC Agreement No. 011797); and makes other administrative changes.

Agreement No.: 011701-004.

Title: P&O Nedlloyd/FMC Agreement 232-011694 Cross Space Charter and Sailing Agreement.

Parties: China Shipping Container Lines, CMA CGM, S.A., P&O Nedlloyd Limited, P&O Nedlloyd B.V.

Synopsis: The proposed agreement modification increases the size of the vessels the parties may deploy under the agreement and changes the name of the agreement to The Pacific East Coast Express Agreement. When this modification becomes effective, the CMA CGM/China Shipping Container Line Cross Space Charter, Sailing and Cooperative Working Agreement, FMC Agreement No. 011694, will be terminated.

Dated: May 17, 2002.
By Order of the Federal Maritime Commission.
Bryant L. VanBrakle,
Secretary.

[FR Doc. 02-12857 Filed 5-21-02; 8:45 am]

BILLING CODE 6730-01-P